DEPARTMENT OF COMMERCE

National Oceanic and Atmospheric Administration

[Docket No. 052404C]

New England Fishery Management Council; Public Hearings; Correction

AGENCY: National Marine Fisheries Service (NMFS), National Oceanic and Atmospheric Administration (NOAA), Commerce.

ACTION: Notice of public hearings on Amendment 2 to the Monkfish Fishery Management Plan (FMP); request for comments; correction.

SUMMARY: On May 28, 2004, NMFS published a notice announcing that the New England and Mid-Atlantic Fishery Management Councils (Councils) would be conducting public hearings on Amendment 2 to the Monkfish FMP. The notice inadvertently referred to the public hearings on Amendment 2 as “scoping meetings.” In addition, the notice provided an incorrect fax number for the New England Fishery Council. This action corrects those errors.

DATES: Written comments on the proposals will be accepted through July 28, 2004. The public hearings will begin Tuesday, June 15, 2004, and end on June 24, 2004. See SUPPLEMENTARY INFORMATION of the May 28, 2004, Federal Register notice for meeting dates, times, and locations.

FOR FURTHER INFORMATION CONTACT: Paul J. Howard, (978) 465-0492.

SUPPLEMENTARY INFORMATION: On May 28, 2004 (69 FR 30624), NMFS published a notice in the Federal Register announcing that the New England and Mid-Atlantic Fishery Management Councils (Councils) proposed to take action to address the requirements of the Magnuson-Stevens Fishery Conservation and Management Act, as amended by the Sustainable Fisheries Act of 1996, as well as a number of issues concerning the management of the monkfish fishery identified during the public scoping process. The May 27, 2004, notification inadvertently identified the upcoming public hearings as “scoping meetings”. According to the Department's environmental review procedures for complying with the National Environmental Policy 1 Act, the formal scoping process officially begins with publication in the Federal Register of a Notice of Intent (NOI) to prepare an Environmental Impact Statement (EIS). NMFS published an NOI to prepare a Monkfish Supplemental EIS and notice of public scoping on December 10, 2001 (66 FR 63666). A notice of supplemental scoping meetings was published in the Federal Register on August 23, 2004 (67 FR 54609). The Councils have concluded their formal scoping process for Amendment 2. On April 30, 2004, a Notice of Availability for the Draft Supplemental EIS for Amendment 2 was published in the Federal Register. The New England and Mid-Atlantic Councils will now hold a series of public hearings to solicit comments on the proposals contained in the DSEIS and its related public hearing document.

Also, the May 28th Federal Register notification indicated that comments on the public hearing document may be faxed to the New England Council. However, an incorrect fax number was provided. This document corrects those errors.

In FR Doc. E4-1223 appearing on page 30624 in the Federal Register of Friday, May 28, 2004, the following corrections are made:

1. On page 30624, in the first column, in the ADDRESSES section, line 11, remove the fax number “(978) 465-0492” and in its place add “(978) 465-3116”.

2. On page 30624, in the first column, in the ADDRESSES section, line 12, remove the word “scoping”.

3. On page 30624, in the third column, under section “Meeting Dates, Times, and Locations”, second line of the first sentence in this section, remove the word “scoping”.

Authority: 16 U.S.C. 1801 et seq.

Dated: June 8, 2004.
Alan D. Risenhoover,
Acting Director, Office of Sustainable Fisheries, National Marine Fisheries Service.

[FR Doc. E4-1346 Filed 6-14-04; 8:45 am]

BILLING CODE 3510-22-S